DEPARTMENT OF THE INTERIOR

Geological Survey

[USGS-GX12WC00Com0001]

Agency Information Collection Activities: Comment Request

AGENCY: U.S. Geological Survey (USGS), Interior.

ACTION: Notice of a new information Collection: USGS Ash Fall Report.

SUMMARY: To comply with the Paperwork Reduction Act of 1995 (PRA), we (The U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: Submit written comments by April 18, 2013.

ADDRESSES: Please submit written comments on this information collection directly to the Office of Management and Budget (OMB) Office of Information and Regulatory Affairs, Attention: Desk Officer for the Department of the Interior via email to OIRA_SUBMISSION@omb.eop.gov or fax at 202-395-5806; and identify your submission with 1028-NEW USGS Ash Fall Report. Please also submit comments on this information collection to the Information Collection Clearance Officer, U.S. Geological Survey, 12201 Sunrise Valley Drive MS 807, Reston, VA 20192 (mail); (703) 648-7199 (fax); or smbaloch@usgs.gov (email). Use Information Collection Number 1028-NEW, Ash Fall Report in the subject line.

FOR FURTHER INFORMATION CONTACT: To request additional information about this ICR, contact Peter Cervelli at 650-329-5188 or pcervelli@usgs.gov. You may also find information on this ICR at www.reginfo.gov.

SUPPLEMENTARY INFORMATION:

Title: USGS Ash Fall Report

OMB Control Number: 1028-NEW

Abstract: The USGS provides warnings and notification to the public of volcanic activity in the U.S. in order to reduce the loss of life, property, and economic and societal impacts. USGS will use reports entered in real time by respondents of ash fall in their local area to correct or refine ash fall forecasts as the ash cloud moves downwind. Retrospectively these reports will enable USGS to improve their ash fall models and further research into eruptive processes.

This project will create a database module and web interface allowing the public and Alaska Volcano Observatory (AVO) staff to enter reports of ash fall in their local area in real time and retrospectively following an eruptive event. Users browsing the AVO Web site during eruptions will be directed towards a web form allowing them to fill in ash fall information and submit the information to AVO.

The ash fall report database will help AVO track eruption clouds and associated fallout downwind. These reports from the public will also give scientists a more complete record of the amount and duration and other conditions of ash fall. Getting first-hand accounts of ash fall will support model ash fall development and interpretation of satellite imagery. Knowing the locations from which ash-fall reports have been filed will improve ash fall warning messages, AVO Volcanic Activity Notifications, and make fieldwork more efficient. AVO staff will be able to condense and summarize the various ash fall reports and forward that information on to emergency management agencies and the wider public.

Frequency: On occasion, after each ash fall event during eruptions

Description of Respondents: Individuals affected by a volcanic ash fall events each year (if an eruption occurs).

Estimated Total Number of Annual Responses: 575

Estimated Annual Burden Hours: 78

Estimated Reporting and Recordkeeping “Non-Hour Cost” Burden: We estimate the non-hour cost burden to be $14.15 per respondent. Although not required, we estimate 50 respondents on an annual basis may voluntarily take and submit an ash fall sample. We suggest supplies on our Web site for respondents to use to assist them with their collection. Most respondents are likely to already possess the items so the true non-hour cost burden is likely to be lower.

Public Disclosure Statement: The PRA (44 U.S.C. 3501, et seq.) provides that an agency may not conduct or sponsor and you are not required to respond to a collection of information unless it displays a currently valid OMB control number.

Comments: On June 11, 2012, we published a Federal Register Notice (77 FR 34400) announcing that we would submit this information collect to OMB for approval. The notice provided a 60-day public commenting period ending on August 20, 2012. We did not receive any comments in response to that notice. We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents. Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: March 7, 2013.
Leslie Holland-Bartels,
USGS Regional Executive, Alaska Area.

[FR Doc. 2013-06268 Filed 3-18-13; 8:45 am]

BILLING CODE 4311-AM-P